DEPARTMENT OF JUSTICE

Antitrust Division

Notice Pursuant to the National Cooperative Research and Production Act of 1993—Telemanagement Forum

Notice is hereby given that, on July 18, 2016, pursuant to Section 6(a) of the National Cooperative Research and Production Act of 1993, 15 U.S.C. 4301 et seq. (“the Act”), TeleManagement Forum (“The Forum”) filed written notifications simultaneously with the Attorney General and the Federal Trade Commission disclosing changes in its membership. The notifications were filed for the purpose of extending the Act's provisions limiting the recovery of antitrust plaintiffs to actual damages under specified circumstances. Specifically, the following parties have been added as members to this venture: OgilvyOne Worldwide S.A. c/o FIWARE, Madrid, SPAIN; John P. Reilly Sole Trader, Plano, TX; The Open Group, San Francisco, CA; IoT connctd GmbH, Berlin, GERMANY; TWINT AG, Bern, SWITZERLAND; Blekinge Institute of Technology, Karlskrona, SWEDEN; Eclipse Foundation, Ottawa, CANADA; FTTH Council Asia-Pacific, Singapore, SINGAPORE; Philippe Imoucha, Aix-en-Provence, FRANCE; Safe Data Matters, Cork, IRELAND; Bristol University, Bristol, UNITED KINGDOM; The Cure Parkinsons Trust, London, UNITED KINGDOM; RoboFold Ltd., London, UNITED KINGDOM; Dunasys, Nanterre, FRANCE; Clarebourne Consultancy Ltd., Bristol, UNITED KINGDOM; Fluxicon, Eindhoven, NETHERLANDS; EASIS CONSULTING, Paris, FRANCE; Xynexis International, Jakarta, INDONESIA; Telecom Personal (Paraguay), Asuncion, PARAGUAY; MD Healthcare Consultants Ltd., Salford, UNITED KINGDOM; Icertis, Inc., Bellevue, WA; Polkomtel S.A. (PLUS), Warsaw, POLAND; ZDSL.com, Kuala Lumpur, MALAYSIA; Lotus Innovations, LLC, Irvine, CA; Qiy Foundation, Boxtel, NETHERLANDS; Docomo Pacific, Tamuning, GUAM; SP Telecommunications Pte Ltd., Singapore, SINGAPORE; HHB SOLUTIONS LIMITED, Hong Kong, PEOPLE'S REPUBLIC OF CHINA; Cellos Software Limited, Melbourne, AUSTRALIA; US Cellular Corporation, Chicago, IL; CheckNET GmbH, Munich, GERMANY; Millicom Tigo Paraguay, Asuncion, PARAGUAY; Bring Labs, Lisbon, PORTUGAL; RMC Consulting COM TR, Istanbul, TURKEY; Vodafone Netherlands, Maastricht, NETHERLANDS; Panamax Inc., New York, NY; Gaia Smart Cities Solutions Pvt Ltd., Mumbai, INDIA; GCI, Anchorage, AK; EY Global Services Limited, London, UNITED KINGDOM; PricewaterhouseCoopers LLP—Edmonton, Toronto, CANADA; and Pole Star, London, UNITED KINGDOM.

Also, the following members have changed their names: Mint Systems Limited to BridgeWorx Ltd., Brighton, UNITED KINGDOM; Ascom Deutschland GmbH, Systems & Solutions to Axino Solutions Group, Aachen, GERMANY; TeliaSonera AB to Telia Company, Stockholm, SWEDEN; Mobistar to Orange Belgium NV/SA, Brussels, BELGIUM; Ace Group Holdings, Inc., to CHUBB, New York, NY; FIWARE to OgilvyOne Worldwide S.A. c/o FIWARE, Madrid, SPAIN; Robots to RoboFold Ltd., London, UNITED KINGDOM; and Bring Global to Bring Labs, Lisbon, PORTUGAL.

In addition, the following parties have withdrawn as parties to this venture: Alcatel-Lucent, Velizy, FRANCE; Banan IT FZ-LLC, Dubai, UAE; bit2win, Rome, ITALY; Broadpeak, Rennes, FRANCE; Cardinality, London, UNITED KINGDOM; Croatian Telecom-HT, Zagreb, CROATIA; cVidya Networks Ltd., Herzliya, ISRAEL; DayBlink Consulting, LLC, Vienna, VA; drop D, Quito, ECUADOR; Eir, Dublin, IRELAND; Etisalat UAE, Abu Dhabi, UNITED ARAB EMIRATES; Fiberblaze, New York, NY; Fornax ICT Kft., Budapest, HUNGARY; Intersec Group, Paris, FRANCE; Magyar Telekom, Budapest, HUNGARY; MEASAT Broadcast Network Systems Sdn Bhd (MBNS-Astro), Kuala Lumpur, MALAYSIA; MTN Ghana, Accra, GHANA; OJSC “VimpelCom,” Moscow, RUSSIA; Samsung Electronics Co., Suwon, SOUTH KOREA; Scarlet S.A, Evere, BELGIUM; Servicios Axtel, SAB, San Pedro Garza Garcia, MEXICO; SML Technologies, Jakarta, INDONESIA; SourceConnect, Chicago, IL; Thomson Video Networks, Cesson-Sévigné, FRANCE; T-Mobile Austria GmbH, Vienna, AUSTRIA; T-Mobile Nederland BV, The Hague, NETHERLANDS; T-Slovak Telekom, a.s., Bratislava, SLOVAKIA; TTNet A.S., Istanbul, TURKEY; Turkcell Iletisim Hiz A.S., Istanbul, TURKEY; UNITEL S.A., Luanda, ANGOLA; Virtual Clarity Ltd., London, UNITED KINGDOM; Wisdom Networks Co., Ltd., Tokyo, JAPAN; and Xura, Ra'anana, ISRAEL.

No other changes have been made in either the membership or planned activity of the group research project. Membership in this group research project remains open, and the Forum intends to file additional written notifications disclosing all changes in membership.

On October 21, 1988, the Forum filed its original notification pursuant to Section 6(a) of the Act. The Department of Justice published a notice in the Federal Register pursuant to Section 6(b) of the Act on December 8, 1988 (53 FR 49615).

The last notification was filed with the Department on April 25, 2016. A notice was published in the Federal Register pursuant to Section 6(b) of the Act on June 9, 2016 (81 FR 37213).

Patricia A. Brink,
Director of Civil Enforcement, Antitrust Division.

[FR Doc. 2016-19691 Filed 8-17-16; 8:45 am]

BILLING CODE P